DEPARTMENT OF COMMERCE

[I.D. 053002B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Coastal Ocean Program Grants Proposal Application Package.

Form Number(s): None.

OMB Approval Number: 0648-0384.

Type of Request: Regular submission.

Burden Hours: 1,100.

Number of Respondents: 300.

Average Hours Per Response: 30 minutes for a budget form; 30 minutes for a project summary; 5 hours for an annual report; 10 hours for a final report; and 10 minutes to provide the extra copies required.

Needs and Uses: The Coastal Ocean Program (COP) provides direct financial assistance for the management of coastal ecosystems. Applicants for assistance are required to provide information in addition to the Standard Forms and grant application information. These additional requirements include a COP summary proposal budget form and a COP project summary. Applicants may also be required to provide up to 20 copies of their proposals. Successful applicants must file annual progress reports and a project final report in accordance with COP formats.

Affected Public: Not-for-profit institutions, individuals or households, and state, local, or tribal government.

Frequency: On occasion, annually.

Respondent's Obligation: Required to obtain or retain benefits.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: May 29, 2002.
Gwellnar Banks
Management Analyst, Office of the Chief Information Officer.

[FR Doc. 02-13958 Filed 6-3-02; 8:45 am]

BILLING CODE 3510-JS-S